DEPARTMENT OF AGRICULTURE

Federal Crop Insurance Corporation

Funding Opportunity Title: Risk Management Education Partnerships Program

Announcement Type: Announcement of Availability of Funds and Request for Applications (RFA) for Competitive Cooperative Partnership Agreements.

Catalog of Federal Domestic Assistance Number (CFDAs): 10.460.

Summary: The Federal Crop Insurance Corporation (FCIC), operating through the Risk Management Agency (RMA), announces its intent to award approximately $2,000,000 to fund the Risk Management Education Partnerships Program. The minimum award for any cooperative partnership agreement is $20,000. The maximum award for any cooperative partnership agreement is $99,999. The cooperative partnership agreements will be awarded on a competitive basis up to one year from the date of the award.

DATES: All applications, which must be submitted electronically through http://rvs.umn.edu/Home.aspx, must be received by close of business (COB) on 11:59 p.m. EST, June 30, 2014. Hard copy applications will NOT be accepted. A tutorial on how to apply is available at http://rvs.umn.edu/rmaresources.

Purpose: The purpose of this competitive cooperative partnership agreement program is to deliver crop insurance education and risk management training to U.S. agricultural producers to assist them in identifying and managing production, marketing, legal, financial, and human risk. The program gives priority to: (1) Educating producers of crops currently not insured under Federal crop insurance, specialty crops, and underserved commodities, including livestock and forage; and (2) providing collaborative partnerships to develop and deliver crop insurance education and other risk management training. Education activities developed under the Risk Management Education Partnerships Program will provide U.S. farmers and ranchers, including limited resource, socially disadvantaged, and other traditionally under-served farmers and ranchers with training and information opportunities to be able to understand:

1. The kinds of risks addressed by existing and emerging risk management tools;

2. The features and appropriate use of existing and emerging risk management tools; and

3. How to make sound risk management decisions.

Funding availability for this program may be announced at approximately the same time as funding availability for similar but separate programs:—CFDA No. 10.458 (Crop Insurance Education in Targeted States). Prospective applicants should carefully examine and compare the notices of each announcement.

The collections of information in this Announcement have been approved by OMB under control number 0563-0067.

This announcement consists of eight sections:

Section I—Funding Opportunity Description

A. Legislative Authority

B. Background

C. Project Goal

D. Definition of Priority Commodities

Section II—Award Information

A. Type of Application

B. Funding Availability

C. Minimum and Maximum Award

D. Project Period

E. Location

F. Audience Emphasis

G. RMA Substantial Involvement

H. Description of Agreement Award—Awardee Tasks

I. Other Tasks

Section III—Eligibility Information

A. Eligible Applicants

B. Cost Sharing or Matching Funding

C. Other—Non-Financial Benefits

Section IV—Application and Submission Information

A. Electronic Application Package

B. Content and Form of Application Submission

C. Funding Restrictions

D. Limitation on Use of Project Funds for Salaries and Benefits

E. Indirect Cost Rates

F. Other Submission Requirements

G. Acknowledgement of Applications

Section V—Application Review Information

A. Criteria

B. Review and Selection Process

Section VI—Award Administration Information

A. Award Notices

B. Administrative and National Policy Requirements

1. Requirement To Use USDA Logo

2. Requirement To Provide Project Information to an RMA-Selected Representative

3. Access to Panel Review Information

4. Confidential Aspects of Applications and Awards

5. Audit Requirements

6. Prohibitions and Requirements Regarding Lobbying

7. Applicable OMB Circulars

8. Requirement To Assure Compliance With Federal Civil Rights Laws

9. Requirement To Participate in a Post Award Teleconference

10. Requirement To Participate in a Post Award Civil Rights Training

11. Requirement To Submit Educational Materials to the Ag Risk and Farm Management Library

C. Reporting Requirements

Section VII—Agency Contact

Section VIII—Additional Information

A. The Restriction of the Expenditure of Funds To Enter Into Financial Transactions

B. Required Registration With the System for Awards Management (SAM) for Submission of Proposals

Full Text of Announcement

I. Funding Opportunity Description

A. Legislative Authority

The Risk Management Education Partnership Program is authorized under Section 522(d)(3)(F) of the Federal Crop Insurance Act (Act) (7 U.S.C. 1522(d)(3)(F)) and provides FCIC funding for risk management training and informational efforts for agricultural producers through the formation of partnerships with public and private organizations.

B. Background

RMA promotes and regulates sound risk management solutions to improve the economic stability of American agriculture. On behalf of FCIC, RMA does this by offering Federal crop insurance products through a network of private-sector partners, overseeing the creation of new risk management products, seeking enhancements in existing products, ensuring the integrity of crop insurance programs, offering programs aimed at equal access and participation of underserved communities, and providing risk management education and information.

C. Project Goal

The goal of this program is to ensure that “. . . producers will be better able to use financial management, farm financial benchmarking, crop insurance, marketing contracts, and other existing and emerging risk management tools.” One of RMA's strategic goals is to ensure that producers are well informed of the risk management solutions available to them. This educational goal is supported by Section 522(d)(3)(F) of the Federal Crop Insurance Act (FCIA) (7 U.S.C. 1522(d)(3)(F), which authorizes FCIC funding for risk management training and informational efforts for agricultural producers through the formation of partnerships with public and private organizations. With respect to such partnerships, priority is to be given to reaching producers of Priority Commodities, as defined below. A project is considered as giving priority to Priority Commodities if 75 percent of the educational and training activities of the project are directed to producers of any one of the three classes of commodities listed in the definition of Priority Commodities or any combination of the three classes.

D. Definition of Priority Commodities

For purposes of this program, Priority Commodities are defined as:

1. Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

1. Specialty crops. Commodities in this group may or may not be covered under a Federal crop insurance plan and include, but are not limited to, fruits, vegetables, tree nuts, syrups, honey, roots, herbs, and highly specialized varieties of traditional crops.

2. Underserved commodities. This group includes: (a) Commodities, including livestock and forage, that are covered by a Federal crop insurance plan but for which participation in an area is below the national average; and (b) commodities, including livestock and forage, with inadequate crop insurance coverage.

For the 2014 fiscal year, the FCIC Board of Directors and the FCIC Manager are seeking projects that (1) address one or more of the Priority Commodities (as defined above), (2) provides Crop Insurance Education on FCIC approved policies, or (3) address one or more of the five (5) areas of risk described as Production, Legal, Financial, Marketing or Human Risk including but not limited to:

• Crop Insurance Education on:

○ Pasture, Rangeland and Forage (Rainfall Index) program;

○ Pasture, Rangeland and Forage (Vegetative Index) program;

○ Specialty Crops;

○ Organic production practices and Organic prices;

○ AGR/AGR-lite or Whole Farm;

○ Supplemental Coverage Option (SCO);

○ Stacked Income Protection Plan (STAX) where available;

• Recordkeeping practices;

• Farm Financial Benchmarking;

• Crop Insurance Education and Risk Management Training to producers in designated Strike Force or Promise Zones areas as defined by USDA; or

• Translating RMA Risk Management Education brochures into Spanish, Hmong or Navajo language for producer crop insurance education.

II. Award Information

A. Type of Application

Only electronic applications will be accepted and they must be submitted through http://rvs.umn.edu/Home.aspx. Hard copy applications will NOT be accepted. Applications submitted to the Risk Management Education Partnerships Program are new applications: There are no renewals. All applications will be reviewed competitively using the selection process and evaluation criteria described in Section V—Application Review Process. Each award will be designated as a Cooperative Partnership Agreement, which will require substantial involvement by RMA (Section II, G).

B. Funding Availability

There is no commitment by USDA to fund any particular application. Approximately $2,000,000 is available in fiscal year 2014. All awards will be made and agreements finalized no later than September 1, 2014 with the project start date of September 30, 2014.

C. Minimum and Maximum Award

Any application that requests Federal funding of less than $20,000 or more than $99,999 for a project will be rejected. RMA also reserves the right to fund successful applications at an amount less than requested if it is judged that the application can be implemented at a lower funding level.

D. Project Period

Projects will be funded for a period of up to one year from the project starting date.

E. Location

RMA Regional Offices and the States available for competition for this award are listed below. Staff from the respective RMA Regional Offices will provide substantial involvement (as defined in G below) for projects conducted within the Region.

Billings, Montana Regional Office: (MT, ND, SD, and WY)

Davis, California Regional Office: (AZ, CA, HI, NV, and UT)

Jackson, Mississippi Regional Office: (AR, KY, LA, MS, and TN)

Oklahoma City, Oklahoma Regional Office: (NM, OK, and TX)

Raleigh, North Carolina Regional Office: (CT, DE, ME, MD, MA, NH, NJ, NY, NC, PA, RI, VT, VA, and WV)

Spokane, Washington Regional Office: (AK, ID, OR, and WA)

Springfield, Illinois Regional Office: (IL, IN, MI, and OH)

St. Paul, Minnesota Regional Office: (IA, MN, and WI)

Topeka, Kansas Regional Office: (CO, KS, MO, and NE)

Valdosta, Georgia Regional Office: (AL, FL, GA, PR, and SC)

Each application must clearly designate the RMA Region where educational activities will be conducted in the application narrative in block 12 of the SF-424 form. Applications without this designation will be rejected. Applications may designate more than one state but cannot designate more than one RMA Region. Applications with proposed activities in more than one state all serviced by the same RMA Region are acceptable. Single applications proposing to conduct educational activities in states served by more than one RMA Region will be rejected. Applications serving Tribal Nations will be accepted and managed from the RMA Regional office serving the designated Tribal Office.

F. Audience Emphasis

Audience emphasis is on U.S. producers and ranchers, while reaching out to, for example, small, limited resource and socially disadvantaged producers and ranchers to ensure they are given the opportunity to participate in educational activities. Other Producer types to which the Applicant may propose to direct its training may include, but are not necessarily limited to, traditional farmers and ranchers; new and beginning farmers; women; veterans; minority producers, crop insurance educational activities and risk management strategies to farmers and ranchers producing and marketing their products as part of a local or regional food system; and producers living in areas designated as Strike Force or Promise Zone communities as defined by USDA, provided that the producers in these categories that are emphasized also meet the minimum statutory criteria.

G. RMA Substantial Involvement

FCIC, working through RMA, will be substantially involved during the performance of the funded project through RMA's ten (10) Regional Offices (see E above). Potential types of substantial involvement may include, but are not limited to, the following activities.

1. Collaborate with the awardee in assembling, reviewing, and approving crop insurance and risk management materials for producers in the designated RMA Region.

2. Collaborate with the awardee in reviewing and approving a promotional program for raising awareness for crop insurance and risk management and for informing producers of training and informational opportunities in the RMA Region.

3. Collaborate with the awardee on the delivery of education to producers and agribusiness leaders in the RMA Region. This will include: (a) Reviewing and approving in advance all producer and agribusiness leader educational activities; (b) advising the project leader on technical issues related to crop insurance education and information; and (c) assisting the project leader in informing crop insurance professionals about educational activity plans and scheduled meetings.

4. Conduct an evaluation of the performance of the awardee in meeting the tasks of the project.

Applications that do not address substantial involvement by RMA will be rejected.

H. Description of Agreement Award—Awardee Tasks

In conducting activities to achieve the purpose and goal of this program in a designated RMA Region, the awardee will be responsible for performing the following tasks:

1. Develop and conduct a promotional program in English or a non-English language to producers as appropriate to the audience. This program will include activities using media, newsletters, publications, or other appropriate informational dissemination techniques that are designed to: (a) raise awareness for crop insurance and risk management; (b) inform producers of the availability of crop insurance and risk management tools; and (c) inform producers and agribusiness leaders in the designated RMA Region of training and informational opportunities.

2. Deliver crop insurance and risk management training in English or non-English language as appropriate to the audience as well as informational opportunities to agricultural producers and agribusiness professionals in the designated RMA Region. This will include organizing and delivering educational activities using the instructional materials assembled by the awardee to meet the local needs of agricultural producers. Activities should be directed primarily to agricultural producers, but may include those agribusiness professionals that have frequent opportunities to advise producers on risk management tools and decisions.

3. Document all educational activities conducted under the cooperative partnership agreement and the results of such activities, including criteria and indicators used to evaluate the success of the program. The awardee will also be required to provide information to RMA as requested for evaluation purposes.

I. Other Tasks

In addition to the specific, required tasks listed above, the applicant may propose additional tasks that would contribute directly to the purpose of this program such as but not limited to individual or group Good Agricultural Practices (GAP) certification, other food-safety related education and training activities, or activities targeting producers engaged in local or regional food systems, such as those selling at farmers markets. For any proposed additional task, the applicant must identify the objective of the task, specific time lines for performing the tasks, and the specific responsibilities of the applicant and any entities working with the applicant in the development or delivery of the project

III. Eligibility Information

A. Eligible Applicants

Eligible applicants include not-for-profit organizations, State Departments of Agriculture, State Cooperative Extension Services; Federal, State, or tribal agencies; groups representing producers, community based organizations or a coalition of community-based organization that has demonstrated experience in providing agricultural or other agricultural-related services to producers; nongovernmental organizations; junior and four-year colleges or universities or foundations maintained by a college or university (including Minority Serving Institutions); faith-based organizations and other appropriate partners with the capacity to lead a local program of crop insurance and risk management education for producers in an RMA Region.

1. Individuals are not eligible applicants.

2. Although an applicant may be eligible to compete for an award based on its status as an eligible entity, other factors may exclude an applicant from receiving Federal assistance under this program governed by Federal law and regulations (e.g. debarment and suspension; a determination of non-performance on a prior contract, cooperative partnership agreement, or grant; or a determination of a violation of applicable ethical standards.) Applications in which the applicant or any of the partners are ineligible or excluded persons will be rejected in their entirety.

3. Private organizations that are involved in the sale of Federal crop insurance, or that have financial ties to such organizations, are eligible to apply for funding under this Announcement. However, such entities and their partners, affiliates, and collaborators for this Announcement will not receive funding to conduct activities that are already required under a Standard Reinsurance Agreement or any other agreement in effect between FCIC/RMA and the entity, or between FCIC/RMA and any of the partners, affiliates, or collaborators for awards under this Announcement. In addition, such entities and their partners, affiliates, and collaborators for this Announcement will not be allowed to receive funding to conduct activities that could be perceived by producers as promoting the services or products of one company over the services or products of another company that provides the same or similar services or products. If applying for funding, such organizations must be aware of potential conflicts of interest and must describe in their application the specific actions they will take to avoid actual and perceived conflicts of interest.

B. Cost Sharing or Matching Funding

Although RMA prefers cost sharing by the applicant, this program has neither a cost sharing nor a matching requirement.

C. Non-Financial Benefits

To be eligible, applicants must also be able to demonstrate that they will receive a non-financial benefit as a result of a cooperative partnership agreement. Non-financial benefits must accrue to the applicant and must include more than the ability to provide employment income to the applicant or for the applicant's employees or the community. The applicant must demonstrate that performance under the cooperative partnership agreement will further the specific mission of the applicant (such as providing research or activities necessary for graduate or other students to complete their educational program). Applications that do not demonstrate a non-financial benefit will be rejected.

IV. Application and Submission Information

A. Electronic Application Package

Only electronic applications will be accepted and they must be submitted to http://rvs.umn.edu/Home.aspx in response to this Announcement. Prior to preparing an application, it is suggested that the Project Director (PD) first contact an Authorized Representative (AR) or the Authorized Organizational Representative (AOR) to determine if the organization is prepared to submit electronic applications through http://rvs.umn.edu/Home.aspx. Applicants must have a Duns and Bradstreet number and must be registered in System for Awards Management (www.SAM.gov).

B. Content and Form of Application Submission

The applicant is strongly encouraged to use the tutorial located at http://rvs.umn.edu/Home.aspx. After completing the tutorial, the final application must be submitted to the same site: http://rvs.umn.edu/Home.aspx. Hard copy of the application will not be accepted. The system will prompt the applicant for the following items:

1. Project Information. Information must include the Project Name, RMA Regional Office, State/Area, Project Director's Name and Contact Information; the second, or alternative Project Director's Name and Contact Information, and a Financial Representative or Grants Office Official and Contact Information. A second Point of Contact Name and Contact Information may be added at the discretion of the applicant.

2. Executive Summary of the Project (limit 200 words). This is a summary of the project and includes the project's goal and objectives, location of work, audience to be reached, and expected impacts and results of the work completed.

3. Proposed Results. Applicants must clearly identify the specific actions producers will take as a result of the education activities.

4. Audience Emphasis. Applicant may select one or more audiences that the project will intentionally reach.

5. Statement of Work. The Statement of Work (SOW) is in a table format and must clearly identify each task associated with the work, the objective of each, specific time lines for performing each task, and the responsible party for completing the activities listed under each task including the specific responsibilities of applicant, the applicant's partner(s), and RMA's substantial involvement. Tasks that directly involve producer participants, such as workshops, must estimate the number of participants to be reached. The SOW must be very clear on who does what, where, and when, as well as, the objective for each task.

6. Proposal Narrative (limit of 600 words). The proposal narrative is a description of work to be done, why the work is important, who will benefit from the work and any additional explanation of the expected results entered under Proposed Results that you want to communicate. The narrative should (a) discuss specific crop insurance education and risk management training to be developed for use with producers; (b) identify the location and number of meetings that will be held; (c) reasonably estimate the total number of producers for each session or meeting identified in the Statement of Work that will be reached through (i) direct face-to face educational activities with an explanation of how the number was determined and (ii) through other means such as direct mailings, Web site, etc. with an explanation of how the number determined; (d) provide an estimate of the number of training hours that will be conducted with an explanation of how the number was determined; (e) provide an estimated cost per producer with an explanation of how the cost was determined, and (f) discuss the methods and resulting measures used to evaluate the results of the education and training delivered to producers.

7. Team and Partners. There are three subsections under Team and Partners. (1) Key Personnel: This section must list designated key personnel employed directly by the applicant, any partner(s) of the applicant, or consultant(s) of the applicant or applicant's partner who will have significant involvement on this project. Each person identified must be described by title, role, and responsibilities including what skills, knowledge, and experience that they will provide that is not already present in the applicant's organization, as well as why that skill, knowledge, or experience is important and what will be the cost and benefit of their involvement. Specific tasks in the SOW designated to them must agree with this section of the application or the application will be rejected. (2) Organizational Capacity: The organizational capacity of the applicant must be described to assure RMA that designated key personnel, contracted employees, partners or consultants working on the project have the skills, knowledge, and experience to do the work described in the SOW and have the necessary resources to add other team members as necessary to complete the work. (3) Partnering Plan: To submit a successful Partnering Plan, all partners of the applicant working on the project must submit a Letter of Commitment which clearly states that the named partner will work with the applicant on the project, if awarded, as well as the role and responsibilities assigned.

8. Budget Narrative must show the total cost for the project. The budget narrative must also include the cost per producer. The budget must describe how category costs listed on the SF 424-A are derived. The budget narrative must provide enough detail for reviewers to easily understand how costs were determined and how they relate to the tasks listed in the SOW. There must be a relationship between work planned and performed to the costs incurred.

9. Priority Priorities. This section must list the Priorities Commodities addressed as defined in Section I, D.

10. RMA Substantial Involvement. This section must describe RMA assistance as defined under RMA Substantial Involvement in Section II, G.

11. Non-Financial Benefits. This section must describe the Non-Financial Benefits from the proposed project as defined in Section III, C.

12. Requested Documents 9. RMA Substantial Involvement. This section must describe RMA assistance as defined under RMA Substantial Involvement in Section II, G.

10. Non-Financial Benefits. This section must describe the Non-Financial Benefits from the proposed project as defined in Section III, C.

11. Requested Documents (to be downloaded from the system, completed and uploaded prior to submission of the application).

• A completed OMB Standard Form 424, “Application for Federal Assistance.”

• A completed OMB Standard Form 424-A, “Budget Information—Non-construction Programs.” Federal funding requested (the total of direct and indirect costs) must not be less than $20,000 or exceed $99,999.

• A completed OMB Standard Form 424-B, “Assurances, Non-constructive Programs.”

• A completed and signed OMB Standard Form LLL, Disclosure of Lobbying Activities.

• A completed and signed AD-1049, Certification Regarding Drug-Free Workplace.

• Current and Pending Report. This form contains a document called the Current and Pending Report. On the Current and Pending Report you must state for this fiscal year if this application is a duplicate application or overlaps substantially with another application already submitted to or funded by another USDA Agency, including RMA, or other private organization. The percentage of each person's time associated with the work to be done under this project must be identified in the application. The total percentage of time for both “Current” and “Pending” projects must not exceed 100% of each person's time. Applicants must list all current public or private employment arrangements or financial support associated with the project or any of the personnel that are part of the project, regardless of whether such arrangements or funding constitute part of the project under this Announcement (supporting agency, amount of award, effective date, expiration date, expiration date of award, etc.). If the applicant has no projects to list, “N/A” should be shown on the form. An application submitted under this RFA that duplicates or overlaps substantially with any application already reviewed and funded (or to be funded) by any other organization or agency, including but not limited to other RMA, USDA, and Federal government programs, will not be funded under this program. RMA reserves the right to reject your application based on the review of this information.

Letters of Commitment. A Letter of Commitment is required from each partner or consultant partner of the applicant who will do the specific task as identified in the SOW. The Letters must (1) be dated within 45 days of the submission and (2) list the specific tasks to be done. Applications that do not include the items listed above will be considered incomplete, will not receive further consideration, and will be rejected.

C. Funding Restrictions

RMA cooperative partnership agreement funds may not be used to:

a. Plan, repair, rehabilitate, acquire, or construct a building or facility including a processing facility;

b. Purchase, rent, or install fixed equipment;

c. Purchase portable equipment (such as laptops, I-pads, cell phones, projectors or similar items. Rental or lease fees are payable from RMA funds for such items in lieu of purchase.)

d. Repair or maintain privately owned vehicles;

e. Pay for the preparation of the cooperative agreement application;

f. Fund political activities;

g. Purchase alcohol, food, beverage, give-away promotional items, or entertainment;

h. Lend money to support farming or agricultural business operation or expansion;

i. Pay costs incurred prior to receiving a cooperative agreement;

j. Provide producer scholarships to meetings, seminars or similar events;

k. Pay entrance fees, conference registration fees, or other expenses to conferences or similar activities for any person not on the agenda or not working at an event booth promoting RMA programs or the RMA funded project. These expenses will not be paid for the awardee's Board of Directors, family members or similar entities. These fees will not be paid for the awardee to attend personal development training in order to train producers;

l. Pay costs associated 501(c) applications;

m. Fund any activities prohibited in 7 CFR Parts 3015 and 3019, as applicable.

D. Limitation on Use of Project Funds for Salaries and Benefits

Total costs for salary and benefits allowed for projects under this Announcement will be limited to not more than 70 percent reimbursement of the funds awarded under the cooperative partnership agreement. The reasonableness of the total costs for salary and benefits allowed for projects under this Announcement will be reviewed and considered by RMA as part of the application review process. Applications for which RMA does not consider the salary and benefits reasonable for the proposed work will be rejected, or will only be offered a cooperative agreement upon the condition of changing the salary and benefits structure to one deemed appropriate by RMA.

E. Indirect Cost Rates

1. Indirect costs allowed for projects submitted under this Announcement will be limited to ten (10) percent of the total direct cost of the cooperative partnership agreement. Therefore, when preparing budgets, applicants should limit their requests for recovery of indirect costs to the lesser of their institution's official negotiated indirect cost rate or 10 percent of the total direct costs.

2. RMA reserves the right to negotiate final budgets with successful applicants.

F. Other Submission Requirements

Applicants are entirely responsible for ensuring that RMA receives a complete application package by the closing date and time. RMA strongly encourages applicants to submit applications well before the deadline. Application packages submitted after the deadline will be rejected.

V. Application Review Information

A. Criteria

Applications submitted under the Risk Management Education Partnerships Program will be evaluated within each RMA Region according to the following criteria:

Project Results—Maximum 30 Points Available

Each application must demonstrate that the project benefits and results to producers warrant the funding requested. Applications will be scored according to the extent they can: (a) Identify the specific actions producers will likely be able to take as a result of the educational activities described by the applicant in the Proposed Results; (b) identify the specific measures for evaluating results including but limited to a change in producer behavior that results in (i) understanding crop insurance program and other risk management tools presented, (ii) evaluating what risk management options works best for his/her operation, and (iii) developing and implementing a specific course of action (e.g., participation in crop insurance programs or creating a risk management plan or other risk management actions) listed by the applicant in the Proposal Narrative; and (c) compare work described in the Proposal Narrative and the Statement of Work (e.g., work to be done) against the Budget Narrative (e.g. cost of work to be done) to the Proposed Results (e.g., benefits to the producers). Higher consideration will be given to applications that demonstrate a clear description of the crop insurance education and risk management training to be delivered, expected actions producers will accomplish, well-designed methods for measuring the project's results, and the best use of funds for the number of producers reached at the cost per producer.

Statement of Work (SOW)—Maximum 20 Points Available

Each application must include a clear and specific Statement of Work for the project as part of the Proposal Narrative. For each of the tasks contained in the Description of Agreement Award (see Section II, Award Information), the application must identify and describe specific tasks, responsible entities including partners, expected completion dates and deliverables that will further the purpose of this program. RMA substantial involvement must be included. Higher consideration will be given to the Statement of Work that demonstrates specific, measurable results and definite deadlines for the completion of tasks.

Partnering—Maximum 20 Points Available

Each application must list all partners working on the project, their titles, and how they will contribute to the deliverables listed in the application. The application must describe how each partner will aid in carrying out the project goal and purpose stated in this announcement and must include Letters of Commitment dated no more than 45 days prior to submission of the relevant application stating that the partner has agreed to do this work. Applications will receive higher consideration to the extent that the application demonstrates: (a) That partnership commitments are in place for the express purpose of delivering the program in this announcement; (b) that a broad group of producers will be reached within the State; (c) that partners are contributing to the project and involved in recruiting producers to attend the training; (d) that a substantial effort has been made to partner with organizations that can meet the needs of producers in the designated State; and (e) statements from each partner regarding the number of producers that partner is committed to recruit for the project that would support the estimates specified under the Project Impacts criterion. No points will be given if a partner is listed but there is no corresponding Letter of Commitment from the partner who is listed in the application.

Key Personnel and Organizational Capacity—Maximum 10 Points Available

Each application must demonstrate an ability to implement sound and effective project management practices. Higher scores in this category will be awarded to applications that demonstrate organizational skills, leadership, and experience in delivering services or programs that assist agricultural producers in the designated State. Each application must demonstrate that the Project Director has the capability to accomplish the project goal and purpose stated in this announcement by (a) having a previous or existing working relationship with the agricultural community in the designated State of the application, including being able to recruit approximately the number of producers to be reached in the application and/or (b) having established the capacity to partner with and gain the support of producer organizations, agribusiness professionals, and agribusiness leaders locally to aid in carrying out a program of education and information, including being able to recruit approximately the number of producers to be reached in this application. Applications must designate an alternate individual to assume responsibility as Project Director in the event the original Project Director is unable to finish the project. Applications that will employ, or have access to, personnel who have experience in directing local educational programs that benefit agricultural producers in the respective State will receive higher rankings in this category.

Budget Appropriateness and Efficiency—Maximum 20 Points Available

Applications must provide a (1) total cost of the project; (2) cost per producer and (3) a detailed budget narrative that clearly explains and justifies costs associated with the project's tasks listed in the Statement of Work. Applications must provide detailed costs by tasks listed in the Statement of Work. Applications will receive higher scores in this category to the extent that they can demonstrate a fair and reasonable use of funds appropriate for the project and a budget that contains the estimated cost of reaching each individual producer.

B. Review and Selection Process

Applications will be evaluated using a two-part process. First, each application will be screened by USDA and RMA personnel to ensure that it meets the requirements in this Announcement. Applications that do not meet the requirements of this Announcement or that are incomplete will not receive further consideration during the next process. Applications that meet Announcement requirements will be sorted into the RMA Region in which the applicant proposes to conduct the project and will be presented to a review panel for consideration.

Second, the review panel will meet to consider and discuss the merits of each application. The panel will consist of not less than three independent reviewers. Reviewers will be drawn from USDA, other Federal agencies, and public and private organizations, as needed. After considering the merits of all applications within an RMA Region, panel members will score each application according to the criteria and point values listed above. The panel will then rank each application against others within the RMA Region according to the scores received. The review panel will report the results of the evaluation to the Manager of FCIC. The panel's report will include the recommended applicants to receive cooperative partnership agreements for each RMA Region. Funding will not be provided for an application receiving a score less than 60. Funding will not be provided for an application that is “highly similar” to a higher-scoring application in the same RMA Region. “Highly similar” is defined as one that proposes to reach the same producers, farmers and ranchers who are likely to be reached by another applicant that scored higher by the panel and provides the same general educational material. An organization, or group of organizations in partnership, may apply for funding under other FCIC or RMA programs, in addition to the program described in this Announcement. However, if the Manager of FCIC determines that an application recommended for funding is sufficiently similar to a project that has been funded or has been recommended to be funded under another RMA or FCIC program, then the Manager may elect not to fund that application in whole or in part. The Manager of FCIC will make the final determination on those applications that will be awarded funding.

VI. Award Administration Information

A. Award Notices

The award document will provide pertinent instructions and information including, at a minimum, the following:

(1) Legal name and address of performing organization or institution to which the Manager of FCIC has issued an award under the terms of this request for applications;

(2) Title of project;

(3) Name(s) and employing institution(s) of Project Directors chosen to direct and control approved activities;

(4) Identifying award number assigned by RMA;

(5) Project period, specifying the amount of time RMA intends to support the project;

(6) Total amount of RMA financial assistance approved by the Manager of FCIC during the project period;

(7) Legal authority(ies) under which the award is issued;

(8) Appropriate Catalog of Federal Domestic Assistance (CFDA) numbers;

(9) Applicable RMA award terms and conditions;

(10) Approved budget plan for categorizing allocable project funds to accomplish the stated purpose of the award; and

(11) Other information or provisions deemed necessary by RMA to carry out its respective awarding activities or to accomplish the purpose of a particular award.

Following approval by the Manager of FCIC of the applications to be selected for funding, project leaders whose applications have been selected for funding will be notified. Within the limit of funds available for such a purpose, the Manager of FCIC will enter into cooperative partnership agreements with those selected applicants.

After a cooperative partnership agreement has been signed, RMA will extend to awardees, in writing, the authority to draw down funds for the purpose of conducting the activities listed in the agreement. All funds provided to the applicant by FCIC must be expended solely for the purpose for which the funds are obligated in accordance with the approved cooperative partnership agreement and budget, the regulations, the terms and conditions of the award, and the applicability of Federal cost principles. No commitment of Federal assistance beyond the project period is made or implied for any award resulting from this notice.

Notification of denial of funding will be sent to applicants after final funding decisions have been made and the awardees announced publicly. Unsuccessful applicants will be provided a debriefing upon request to the Director, Risk Management Education.

B. Administrative and National Policy Requirements

1. Requirement To Use USDA Logo

Applicants awarded cooperative partnership agreements will be required to use a USDA Logo provided by RMA for all instructional and promotional materials, when deemed appropriate.

2. Requirement To Provide Project Materials and Information to an RMA-Selected Representative

Applicants awarded cooperative partnership agreements will be required to provide RMA educational materials, tools, Web pages or similar items no later than 20 business days before use in the public domain for the purpose of RMA review and approval. Educational materials cannot be used without RMA approval. In addition, award recipients will assist RMA in evaluating the effectiveness of its educational programs by notifying RMA of upcoming training meeting and by providing documentation of educational activities, materials, and related information to any representative selected by RMA for program evaluation purposes.

3. Access to Panel Review Information

Upon written request from the applicant, scores from the evaluation panel, not including the identity of reviewers, will be sent to the applicant after the review and award process has been completed.

4. Confidential Aspects of Applications and Awards

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application. When an application results in a cooperative partnership agreement, that agreement becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application, including the basis for such designation. The original copy of an application that does not result in an award will be retained by RMA for a period of one year. Other copies will be destroyed. Copies of applications not receiving awards will be released only with the express written consent of the applicant or to the extent required by law. An application may be withdrawn at any time prior to award.

5. Audit Requirements

Applicants awarded cooperative partnership agreements are subject to audit.

6. Prohibitions and Requirements Regarding Lobbying

All cooperative agreements will be subject to the requirements of 7 CFR part 3015, “Uniform Federal Assistance Regulations.” A signed copy of the certification and disclosure forms must be submitted with the application and are available at the address and telephone number listed in Section VII, Agency Contact.

Departmental regulations published at 7 CFR part 3018 imposes prohibitions and requirements for disclosure and certification related to lobbying on awardees of Federal contracts, grants, cooperative partnership agreements and loans. It provides exemptions for Indian Tribes and tribal organizations. Current and prospective awardees, and any subcontractors, are prohibited from using Federal funds, other than profits from a Federal contract, for lobbying Congress or any Federal agency in connection with the award of a contract, grant, cooperative partnership agreement or loan. In addition, for each award action in excess of $100,000 ($150,000 for loans) the law requires awardees and any subcontractors to complete a certification in accordance with Appendix A to Part 3018 and a disclosure of lobbying activities in accordance with Appendix B to Part 3018.: The law establishes civil penalties for non-compliance.

7. Applicable OMB Circulars

All cooperative partnership agreements funded as a result of this notice will be subject to the requirements contained in all applicable OMB circulars at http://www.whitehouse.gov/omb/grants_circulars.

8. Requirement To Assure Compliance With Federal Civil Rights Laws

Awardees and all partners/collaborators of all cooperative agreements funded as a result of this notice are required to know and abide by Federal civil rights laws, which include, but are not limited to, Title VI of the Civil Rights Act of 1964 (42 U.S.C. 2000d et. seq.), and 7 CFR part 15. RMA requires that awardees submit an Assurance Agreement (Civil Rights), assuring RMA of this compliance prior to the beginning of the project period. Although awardees are required to report on their civil rights compliance using demographic data among other methodologies, awardees are not required to collect demographic data directly from producers until such time as RMA has an approved form and process in place for that purpose.

9. Requirement To Participate in a Post Award Teleconference

RMA requires that project leaders participate in a post award teleconference, if conducted, to become fully aware of agreement requirements and for delineating the roles of RMA personnel and the procedures that will be followed in administering the agreement and will afford an opportunity for the orderly transition of agreement duties and obligations if different personnel are to assume post-award responsibility.

10. Requirement To Participate in a Post Award Civil Rights Training

RMA requires that project leaders participate in a post award Civil Rights and EEO training to become fully aware of Civil Rights and EEO law and requirements.

11. Requirement To Submit Educational Materials to the Ag Risk and Farm Management Library

RMA requires that project leaders upload digital copies of all risk management educational materials developed because of the project to the Ag Risk and Farm Management Library at www.agrisk.umn.edu for posting. RMA will be clearly identified as having provided funding for the materials.

C. Reporting Requirements

Awardees will be required to submit quarterly financial reports (OMB Standard Form 425) throughout the project period, as well as a final program and financial report not later than 90 days after the end of the project period. The quarterly progress reports and final program reports must be submitted through the Results Verification System. The Web site address is http://http://rvs.umn.edu/Home.aspx/Home.aspx.

VII. Agency Contact

FOR FURTHER INFORMATION CONTACT: Applicants and other interested parties are encouraged to contact: USDA-RMA-RME, phone: 202-720-0779, email: RMA.Risk-Ed@rma.usda.gov. You may also obtain information regarding this announcement from the RMA Web site at: http://www.rma.usda.gov/aboutrma/agreements.

VIII. Additional Information

A. The Restriction of the Expenditure of Funds To Enter Into Financial Transactions

The Agriculture, Rural Development, Food and Drug Administration, and Related Agencies Appropriations Act, 2012 (Pub. L. 112-55) contains the restriction of the expenditure of funds to enter into financial transactions Corporations that have been convicted of felonies within the past 24 months or that have federal tax delinquencies where the agency is aware of the felonies and/or tax delinquencies.

Section 738 (Felony Provision)

None of the funds made available by this Act may be used to enter into a contract, memorandum of understanding, or cooperative agreement with, make a grant to, or provide a loan or loan guarantee to any corporation that was convicted (or had an officer or agency of such corporation acting on behalf of the corporation convicted) of a felony criminal violation under any Federal or State law within the preceding 24 months, where the awarding agency is aware of the conviction, unless the agency has considered suspension or debarment of the corporation, or such officer or agent, and made a determination that this further action is not necessary to protect the interest of the Government.

Section 739 (Tax Delinquency Provision)

None of the funds made available by this Act may be used to enter into a contract, memorandum of understanding, or cooperative agreement with, make a grant to, or provide a loan or loan guarantee to, any corporation that [has] any unpaid Federal tax liability that has been assessed, for which all judicial and administrative remedies have been exhausted or have lapsed, and that is not being paid in a timely manner pursuant to an agreement with the authority responsible for collecting the tax liability, where the awarding agency is aware of the unpaid tax liability, unless the agency has considered suspension or debarment of the corporation and made a determination that this further action is not necessary to protect the interests of the Government.

B. Required Registration With the System for Award Management (SAM) for Submission of Proposals

Under the Federal Funding Accountability and Transparency Act of 2006, the applicant must comply with the additional requirements set forth in Attachment A regarding the Dun and Bradstreet Universal Numbering System (DUNS) Requirements and the SAM Requirements found at 2 CFR part 25. For the purposes of this RFA, the term “you” in Attachment A will mean “applicant”. The applicant will comply with the additional requirements set forth in Attachment B regarding Subawards and Executive Compensation. For the purpose of this RFA, the term “you” in Attachment B will mean “applicant”. SAM (www.SAM.gov) is a database that serves as the primary Government repository for contractor information required for the conduct of business with the Government. This database will also be used as a central location for maintaining organizational information for organizations seeking and receiving grants from the Government. Such organizations must register in SAM prior to the submission of applications. A DUNS number is needed for SAM registration. For information about how to register in SAM, access www.SAM.gov. Allow a minimum of 5 business days to complete the SAM registration.

C. Related Programs

Funding availability for this program may be announced at approximately the same time as funding availability for similar but separate programs—and CFDA No. 10.458 (Crop Insurance Education in Targeted States). These programs have some similarities, but also key differences. The differences stem from important features of each program's authorizing legislation and different RMA objectives. Prospective applicants should carefully examine and compare the notices for each program.

Attachment A

I. System for Award Management (SAM) Registration and Universal Identifier Requirements

A. Requirement for SAM

Unless you are exempted from this requirement under 2 CFR 25.110, you as the recipient must maintain the currency of your information in SAM until you submit the final financial report required under this award or receive the final payment, whichever is later. This requires that you review and update the information at least annually after the initial registration, and more frequently if required by changes in your information or another award term.

B. Requirement for Data Universal Numbering System (DUNS) Numbers

If you are authorized to make subawards under this award, you:

1. Must notify potential sub recipients that no entity (see definition in paragraph C of this award) may receive a subaward from you unless the entity has provided its DUNS number to you.

2. May not make a subaward to an entity unless the entity has provided its DUNS number to you.

C. Definitions for Purposes of This Award Term:

1. SAM means the Federal repository into which an entity must provide information required for the conduct of business as a recipient. Additional information about registration procedures may be found at www.SAM.gov.

2. Data Universal Numbering System (DUNS) number means the nine-digit number established and assigned by Dun and Bradstreet, Inc. (D & B) to uniquely identify business entities. A DUNS number may be obtained from D & B at www.fedgov.dnb.com/webform

3. Entity, as it is used in this award term, means all of the following, as defined at 2 CFR part 25, subpart C:

a. A Governmental organization, which is a State, local government, or Indian Tribe;

b. A foreign public entity;

c. A domestic or foreign nonprofit organization;

d. A domestic or foreign for-profit organization; and

e. A Federal agency, but only as a subrecipient under an award or subaward to a non-Federal entity.

4. Subaward:

a. This term means a legal instrument to provide support for the performance of any portion of the substantive project or program for which you received this award and that you as the recipient award to an eligible subrecipient.

b. The term does not include your procurement of property and services needed to carry out the project or program (for further explanation, OMB Circular A-I33, “Audits of States, Local Governments, and Non-Profit Organizations”).

c. A subaward may be provided through any legal agreement, including an agreement that you consider a contract.

5. Subrecipient means an entity that:

a. Receives a subaward from you under this award; and

b. Is accountable to you for the use of the Federal funds provided by the subaward.

Attachment B

I. Reporting Sub Awards and Executive Compensation.

a. Reporting of first-tier subawards.

1. Applicability. Unless you are exempt as provided in paragraph d. of this award term, you must report each action that obligates $25,000 or more in Federal funds that does not include Recovery funds (as defined in Section 1512(a)(2) of the American Recovery and Reinvestment Act of 2009 (Pub. L. 111-5) for a subaward to an entity (see definitions in paragraph e. of this award term).

2. Where and when to report.

i. You must report each obligating action described in paragraph a.I. of this award term to http://www.fsrs.gov

ii. For sub award information, report no later than the end of the month following the month in which the obligation was made. (For example, if the obligation was made on November 7, 2014, the obligation must be reported by no later than December 31, 2014.)

3. What to report. You must report the information about each obligating action that the submission instructions posted at http://www.fsrs.gov

b. Reporting Total Compensation of Recipient Executives.

1. Applicability and what to report. You must report total compensation for each of your five most highly compensated executives for the preceding completed fiscal year, if—

i. The total Federal funding authorized to date under this award is $25,000 or more;

ii. In the preceding fiscal year, you received—

(A) 80 percent or more of your annual gross revenues from Federal procurement contracts (and subcontracts) and Federal financial assistance subject to the Transparency Act, as defined at 2 CFR 170.320 (and subawards); and

(B) $25,000,000 or more in annual gross revenues from Federal procurement contracts (and subcontracts) and Federal financial assistance subject to the Transparency Act, as defined at 2 CFR 170.320 (and subawards); and

iii. The public does not have access to information about the compensation of the executives through periodic reports filed under Section 13(a) or 15(d) of the Securities Exchange Act of 1934 (15 U.S.C. 78m(a), 780(d)) or Section 6104 of the Internal Revenue Code of 1986. (To determine if the public has access to the compensation information, see the U.S. Security and Exchange Commission total compensation filings at http://www.sec.gov/answers/execomp.htm.

2. Where and when to report. You must report executive total compensation described in paragraph b.1. of this award term:

i. As part of your registration profile at http://www.SAM.gov.

ii. By the end of the month following the month in which this award is made, and annually thereafter.

c. Reporting of Total Compensation of Sub Recipient Executives.

1. Applicability and what to report. Unless you are exempt as provided in paragraph d. of this award term, for each first-tier sub recipient under this award, you will report the names and total compensation of each of the sub recipient's five most highly compensated executives for the sub recipient's preceding completed fiscal year, if—

i. in the subrecipient's preceding fiscal year, the subrecipient received—

(A) 80 percent or more of its annual gross revenues from Federal procurement contracts (and subcontracts) and Federal financial assistance subject to the Transparency Act, as defined at ~ CFR 170.320 (and subawards); and

(B) $25,000,000 or more in annual gross revenues from Federal procurement contracts (and subcontracts), and Federal financial assistance subject to the Transparency Act (and subawards); and

ii. The public does not have access to information about the compensation of the executives through periodic reports filed under Section 13(a) or 15(d) of the Securities Exchange Act of 1934 (15 U.S.C. 78m(a), 780(d) or Section 6104 of the Internal Revenue Code of 1986. (To determine if the public has access to the compensation information, see the U.S. Security and Exchange Commission total compensation filings at http://www.sec.gov/answers/execomp.htm.

2. Where and when to report. You must report subrecipient executive total compensation described in paragraph c.1. of this award term:

i. To the recipient.

ii. By the end of the month following the month during which you make the subaward. For example, if a subaward is obligated on any date during the month of October of a given year (i.e., between October 1 and 31), you must report any required compensation information of the subrecipient by November 30 of that year.

d. Exemptions

If, in the previous tax year, you had gross income, from all sources, under $300,000, you are exempt from the requirements to report:

i. Subawards, and

ii. The total compensation of the five most highly compensated executives of any sub recipient.

e. Definitions. For purposes of this award term:

1. Entity means all of the following, as defined in 2 CFR part 25:

i. A Governmental organization, which is a State, local government, or Native American tribe;

ii. A foreign public entity;

iii. A domestic or foreign nonprofit organization;

iv. A domestic or foreign for-profit organization;

v. A Federal agency, but only as a subrecipient under an award or subaward to a non-Federal entity.

2. Executive means officers, managing partners, or any other employees in management positions.

3. Subaward:

1. This term means a legal instrument to provide support for the performance of any portion of the substantive project or program for which you received this award and that you as the recipient award to an eligible subrecipient.

ii. The term does not include your procurement of property and services needed to carry out the project or program (OMB Circular A-133, “Audits of States, Local Governments, and Non-Profit Organizations”).

iii. A subaward may be provided through any legal agreement, including an agreement that you or a subrecipient considers a contract.

4. Subrecipient means an entity that:

i. Receives a sub award from you (the recipient) under this award; and

ii. Is accountable to you for the use of the Federal funds provided by the subaward.

5. Total compensation means the cash and noncash dollar value earned by the executive during the recipient's or subrecipient's preceding fiscal year and includes the following (for more information see 17 CFR 229.402(c)(2):

i. Salary and bonus.

ii. Awards of stock, stock options, and stock appreciation rights. Use the dollar amount recognized for financial statement reporting purposes with respect to the fiscal year in accordance with the Statement of Financial Accounting Standards No. 123 (Revised 2004) (FAS 123R), Shared Based Payments.

iii. Earnings for services under non-equity incentive plans. This does not include group life, health, hospitalization or medical reimbursement plans that do not discriminate in favor of executives, and are available generally to all salaried employees.

iv. Change in pension value. This is the change in present value of defined benefit and actuarial pension plans.

v. Above-market earnings on deferred compensation which is not tax-qualified.

vi. Other compensation, if the aggregate value of all such other compensation (e.g. severance, termination payments, value of life insurance paid on behalf of the employee, perquisites or property) for the executive exceeds $10,000.

Signed in Washington, DC, on May 12, 2014.
Brandon Willis,
Manager, Federal Crop Insurance Corporation.

[FR Doc. 2014-11239 Filed 5-14-14; 8:45 am]

BILLING CODE 3410-08-P